DEPARTMENT OF HEALTH AND HUMAN SERVICES

Centers for Disease Control and Prevention

[60Day-25-25AE; Docket No. CDC-2024-0078]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled 2024 Marburg Airport Entry Questionnaires. This information collection is intended to assess risk for infection or exposure to Marburg in travelers coming to the United States from areas affected by an outbreak of Marburg originating in Rwanda.

DATES: CDC must receive written comments on or before December 20, 2024.

ADDRESSES: You may submit comments, identified by Docket No. CDC-2024-0078 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

2024 Marburg Airport Entry Questionnaires—New—National Center for Emerging and Zoonotic Infectious Diseases (NCEZID), Centers for Disease Control and Prevention (CDC).

Background and Brief Description

The Centers for Disease Control and Prevention (CDC), National Center for Emerging and Zoonotic Infectious Diseases (NCEZID), Division of Global Migration Health (DGMH) requests an Emergency approval for a New Information Collection Request (ICR). Section 361 of the Public Health Service (PHS) Act (42 U.S.C. 264) authorizes the Secretary of Health and Human Services (HHS) to make and enforce regulations necessary to prevent the introduction, transmission or spread of communicable diseases from foreign countries into the United States. Under its delegated authority, DGMH works to fulfill this responsibility through a variety of activities, including the operation of Port Health Stations at ports of entry and administration of foreign quarantine regulations; 42 Code of Federal Regulation part 71, specifically 42 CFR 71.20 Public Health prevention measures to detect communicable disease. This information collection concerns CDC's statutory and regulatory authority related to conducting public health screening of travelers upon arrival to the United States and assessing individual travelers for public health risk following a report of illness from a conveyance.

CDC has been tasked with conducting public health assessments at U.S. airports of travelers coming from areas experiencing an outbreak of Marburg originating in Rwanda. The purpose of this information collection is to determine the public health risk that travelers from areas affected by the 2024 outbreak of Marburg originating in Rwanda may pose. This information will be used to: (1) determine if travelers have symptoms consistent with Marburg virus disease (MVD) and should be isolated and medically evaluated upon arrival in the U.S.; and (2) assist state and local health departments with understanding which travelers from the region may be at higher risk of becoming ill with MVD and should be prioritized for taking certain public health protection measures, such as isolation or quarantine.

CDC collects international travelers' contact information under authorities in the Interim Final Rule: Control of Communicable Diseases: Foreign Quarantine and CDC's Order Requirement for Airlines and Operators to Collect and Transmit Designated Information for Passengers and Crew Arriving Into the United States; Requirement for Passengers to Provide Designated Information. Traveler contact information is sent to CDC though an existing data-sharing infrastructure in place between the United States Department of Homeland Security (DHS) and HHS/CDC and approved in OMB Control Number 0920-1354. Contact information for travelers who have been to an area affected by the outbreak during the 21 days prior to arrival will be confirmed at the port of entry. CDC will share contact information for these travelers with state and local health departments so that they can do possible public health follow up, including public health assessment of exposure risk and monitoring for MVD symptoms, and education to travelers. These public health interventions will help state and local health departments determine the appropriate level of follow needed based on the traveler's level of risk and rapidly identify any travelers with symptoms that may need to be prioritized for more targeted public health measures, such as quarantine, due to a higher risk of exposure to Marburg.

To implement the 2024 Marburg Airport Entry Questionnaires information collection, CDC will first require all travelers from designated areas affected by the 2024 outbreak of Marburg originating in Rwanda, to undergo an initial screening to determine if CDC needs to do further public health risk assessment or illness response at the airport. DHS will refer travelers that have been to designated areas to another location of the airport where CDC will ask initial MVD screening questions. DHS will also provide the contact information they have received to CDC electronically as part of the information collection under OMB Control Number 0920-1354. CDC will escort travelers to the area of the initial MVD screening and confirm with the traveler that the contact information on file is correct. CDC will inform DHS if there are any necessary corrections needed to the contact information.

In this initial MVD screening setting, CDC will ask basic questions about signs or symptoms of illness (e.g., fever, rash, diarrhea, etc.) or possible exposure (e.g., contact with a person sick with MVD, attendance at a funeral, etc.) as well as observe travelers to determine if the traveler is experiencing any overt signs and symptoms of disease, and measure their temperature with a noncontact thermometer. If a traveler answers “Yes” to any of these initial screening questions, is visibly ill, or has a fever, the traveler will then be referred to another area of the airport for a public health risk assessment by CDC. The public health risk assessment will help CDC investigate further to determine if the traveler could be sick with MVD or to get more information about a possible exposure to the Marburg virus to determine if the traveler is high-risk.

The CDC staff member doing the initial MVD screening will escort the traveler to the new area of the airport for further public health risk assessment questions by other staff members of CDC. They will indicate the reason the traveler is being referred for further public health risk assessment to the new CDC staff member. Any traveler who is visibly ill or reports signs or symptoms, or has an elevated temperature measurement, will undergo an illness investigation using the Air Travel Illness or Death Investigation or Traveler Follow up Form that is currently approved under OMB Control Number 0920-1318. Staff will take necessary precautions to prevent possible exposures by any ill travelers, such as wearing appropriate personal protective equipment during any illness investigation.

During the CDC public health risk assessment, CDC will ask more detailed questions about possible exposures, such as symptoms, whether they were exposed to a person with MVD, and the nature of contact (e.g., provided direct health care). Depending on their symptoms and how they answer, CDC may refer the person for medical care. If CDC staff identify any travelers with high-risk exposures, management will be coordinated directly with the health departments of jurisdiction for both the airport where traveler is located and their final destination. Issuance of public health orders under federal or state authorities may also be considered. Any information from these public health risk assessments, as well as information related to an illness investigation will be recorded in CDC's Port Health Activity Reporting System (PHARS), which is covered by the System of Records Notice is 09-20-0171, Quarantine- and Traveler-Related Activities.

CDC requests OMB approval for an estimated 5,110 annual burden hours. There is no cost to respondents other than their time to participate.

Estimated Annualized Burden Hours
Type of respondents | Form name | Number of respondents | Number of responses per respondent | Average burden per response (in hours) | Total burden (in hours)
Traveler | CDC Initial Screening—Marburg | 43,800 | 1 | 5/60 | 3,650
Traveler | POE Public Health Risk Assessment Form—CDC Marburg Response | 4,380 | 1 | 20/60 | 1,460
Total |  |  |  |  | 5,110

Jeffrey M. Zirger,
Lead, Information Collection Review Office, Office of Public Health Ethics and Regulations, Office of Science, Centers for Disease Control and Prevention.

[FR Doc. 2024-24304 Filed 10-18-24; 8:45 am]

BILLING CODE 4163-18-P